DEPARTMENT OF ENERGY

Federal Energy Regulatory Commission

Combined Notice of Filings

Take notice that the Commission has received the following Natural Gas Pipeline Rate and Refund Report filings:

Filings Instituting Proceedings

Docket Numbers: RP26-415-000.

Applicants: Northern Border Pipeline Company.

Description: 4(d) Rate Filing: Scout Energy Permanent Release to Ridge Oil to be effective 10/1/2025.

Filed Date: 1/28/26.

Accession Number: 20260128-5205.

Comment Date: 5 p.m. ET 2/9/26.

Docket Numbers: RP26-416-000.

Applicants: Equitrans, L.P.

Description: 4(d) Rate Filing: Negotiated Rate Agreements—1/27/2026 to be effective 1/27/2026.

Filed Date: 1/28/26.

Accession Number: 20260128-5305.

Comment Date: 5 p.m. ET 2/9/26.

Docket Numbers: RP26-417-000.

Applicants: Equitrans, L.P.

Description: 4(d) Rate Filing: Amended Negotiated Rate Agreement—2/1/2026 to be effective 2/1/2026.

Filed Date: 1/29/26.

Accession Number: 20260129-5062.

Comment Date: 5 p.m. ET 2/10/26.

Docket Numbers: RP26-418-000.

Applicants: Equitrans, L.P.

Description: 4(d) Rate Filing: Remove Expired Negotiated Rate Agreements—3/1/2026 to be effective 3/1/2026.

Filed Date: 1/29/26.

Accession Number: 20260129-5074.

Comment Date: 5 p.m. ET 2/10/26.

Docket Numbers: RP26-419-000.

Applicants: Iroquois Gas Transmission System, L.P.

Description: 4(d) Rate Filing: 1.29.26 Negotiated Rates—Mercuria Energy America, LLC R-7540-02 to be effective 2/1/2026.

Filed Date: 1/29/26.

Accession Number: 20260129-5121.

Comment Date: 5 p.m. ET 2/10/26.

Docket Numbers: RP26-420-000.

Applicants: Iroquois Gas Transmission System, L.P.

Description: 4(d) Rate Filing: 1.29.26 Negotiated Rates—Trafigura Trading LLC H-8150-89 to be effective 1/29/2026.

Filed Date: 1/29/26.

Accession Number: 20260129-5140.

Comment Date: 5 p.m. ET 2/10/26.

Docket Numbers: RP26-421-000.

Applicants: Iroquois Gas Transmission System, L.P.

Description: 4(d) Rate Filing: 1.29.26 Negotiated Rates—Mercuria Energy America, LLC H-7540-89 to be effective 1/29/2026.

Filed Date: 1/29/26.

Accession Number: 20260129-5161.

Comment Date: 5 p.m. ET 2/10/26.

Docket Numbers: RP26-422-000.

Applicants: Iroquois Gas Transmission System, L.P.

Description: 4(d) Rate Filing: 1.29.26 Negotiated Rates—Freepoint Commodities LLC R-7250-51 to be effective 2/1/2026.

Filed Date: 1/29/26.

Accession Number: 20260129-5169.

Comment Date: 5 p.m. ET 2/10/26.

Docket Numbers: RP26-423-000.

Applicants: Iroquois Gas Transmission System, L.P.

Description: 4(d) Rate Filing: 1.29.26 Negotiated Rates—Freepoint Commodities LLC R-7250-52 to be effective 2/1/2026.

Filed Date: 1/29/26.

Accession Number: 20260129-5177.

Comment Date: 5 p.m. ET 2/10/26.

Docket Numbers: RP26-424-000.

Applicants: Pine Needle LNG Company, LLC.

Description: 4(d) Rate Filing: Negotiated Rate—Washington Gas—Termination to be effective 3/1/2026.

Filed Date: 1/29/26.

Accession Number: 20260129-5239.

Comment Date: 5 p.m. ET 2/10/26.

Docket Numbers: RP26-425-000.

Applicants: Sierrita Gas Pipeline LLC.

Description: 4(d) Rate Filing: 2026 Jan Quarterly FL&U Filing to be effective 3/1/2026.

Filed Date: 1/29/26.

Accession Number: 20260129-5244.

Comment Date: 5 p.m. ET 2/10/26.

Docket Numbers: RP26-426-000.

Applicants: Maritimes & Northeast Pipeline, L.L.C.

Description: 4(d) Rate Filing: Negotiated Rates—Northern to NRG Bus Mktg 3382 to be effective 2/1/2026.

Filed Date: 1/29/26.

Accession Number: 20260129-5293.

Comment Date: 5 p.m. ET 2/10/26.

Docket Numbers: RP26-427-000.

Applicants: El Paso Natural Gas Company, L.L.C.

Description: 4(d) Rate Filing: Negotiated Rate Agreement Update (Shell Mar 2026) to be effective 3/1/2026.

Filed Date: 1/29/26.

Accession Number: 20260129-5311.

Comment Date: 5 p.m. ET 2/10/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR26-18-001.

Applicants: The East Ohio Gas Company.

Description: Amendment Filing: Amendment to Revised Statement of Operating Conditions to be effective 11/1/2025.

Filed Date: 1/28/26.

Accession Number: 20260128-5149.

Comment Date: 5 p.m. ET 2/11/26.

284.123(g) Protest: 5 p.m. ET 2/11/26.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 29, 2026.
Carlos D. Clay,
Deputy Secretary.

[FR Doc. 2026-02137 Filed 2-2-26; 8:45 am]

BILLING CODE 6717-01-P